DEPARTMENT OF COMMERCE

National Oceanic and Atmospheric Administration

RIN 0648-XE766

Marine Mammals; File Nos. 19669 and 20532

AGENCY: National Marine Fisheries Service (NMFS), National Oceanic and Atmospheric Administration (NOAA), Commerce.

ACTION: Notice; receipt of applications.

SUMMARY: Notice is hereby given that the Chicago Zoological Society [Michael J. Adkesson, D.V.M., Responsible Party], 3300 South Golf Rd., Brookfield, Illinois 60513 (File No. 19669), and Stephen John Trumble, Ph.D., Baylor University, 101 Bagby Ave., Waco, TX 76706 (File No. 20532), have applied in due form for permits to import, export, and receive marine mammal parts for scientific research.

DATES: Written, telefaxed, or email comments must be received on or before September 28, 2016.

ADDRESSES: The applications and related documents are available for review by selecting “Records Open for Public Comment” from the “Features” box on the Applications and Permits for Protected Species (APPS) home page, https://apps.nmfs.noaa.gov, and then selecting File No. 19669 or 20532 from the list of available applications.

These documents are also available upon written request or by appointment in the Permits and Conservation Division, Office of Protected Resources, NMFS, 1315 East-West Highway, Room 13705, Silver Spring, MD 20910; phone (301) 427-8401; fax (301) 713-0376.

Written comments on either of these applications should be submitted to the Chief, Permits and Conservation Division, at the address listed above. Comments may also be submitted by facsimile to (301) 713-0376, or by email to NMFS.Pr1Comments@noaa.gov. Please include the File No. 19669 or 20532 in the subject line of the email comment.

Those individuals requesting a public hearing should submit a written request to the Chief, Permits and Conservation Division at the address listed above. The request should set forth the specific reasons why a hearing on this application would be appropriate.

FOR FURTHER INFORMATION CONTACT: Shasta McClenahan or Jennifer Skidmore, (301) 427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR 222-226).

File No. 19669: The applicant proposes to import and export biological samples taken for scientific research that continues the long term evaluation and monitoring of South American fur seal (Arctocephalus australis) and South American sea lion (Otaria flavescens) population health at the Punta San Juan reserve and marine protected area in Peru. The requested duration of the permit is 5 years.

File No. 20532: The applicant proposes to import and export biological samples from museum holdings and stranded animals worldwide for scientific research to chronologically profile anthropogenic and physiological data including hormones and pesticides to record exposure and stress. Earwax and baleen samples will be from blue (Balaenoptera musculus), gray (Eschrichtius robustus), fin (Balaenoptera physalus), minke (Balaenoptera acutorostrata), bowhead whales (Balaena mysticetus), and humpback whales (Megaptera novaeangliae), and earwax only from sperm whales (Physeter macrocephalus). Earwax and baleen may also be obtained from subsistence hunted bowhead whales in Alaska. The requested duration of the permit is 5 years.

In compliance with the National Environmental Policy Act of 1969 (42 U.S.C. 4321 et seq.), an initial determination has been made that the activities proposed are categorically excluded from the requirement to prepare an environmental assessment or environmental impact statement.

Concurrent with the publication of this notice in the Federal Register, NMFS is forwarding copies of the applications to the Marine Mammal Commission and its Committee of Scientific Advisors.

Dated: August 24, 2016.
Julia Harrison,
Chief, Permits and Conservation Division, Office of Protected Resources, National Marine Fisheries Service.

[FR Doc. 2016-20613 Filed 8-26-16; 8:45 am]

BILLING CODE 3510-22-P